DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held June 17, from 8:30 a.m.-1:30 p.m.

ADDRESSES: The meeting will be held at RTCA, Inc., 1150 18th Street NW., Suite 910, Washington, DC, 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

June 17

• WELCOME AND INTRODUCTIONS

• REVIEW/APPROVE Meeting Summary

○ March 18, 2014, RTCA Paper No. 095-14/PMC-1203

• PUBLICATION CONSIDERATION/APPROVAL

○ Final Draft, Revised Document, DO-317A—Minimum Operational Performance Standards (MOPS) for Aircraft Surveillance Applications (ASA) System, RTCA Paper No. 102-14/PMC-1204, prepared by SC-186

○ Final Draft, New Document, Safety and Performance Requirements Document for CDTI Assisted Visual Separation (CAVS), RTCA Paper No. 103-14/PMC-1205, prepared by SC-186.

○ Final Draft, Revised Document, DO-326—Airworthiness Security Process Specification, RTCA Paper No. 104-14/PMC-1206, prepared by SC-216.

○ Final Draft, New Document, Information Security Guidance for Continuing Airworthiness, RTCA Paper No. 105-14/PMC-1207, prepared by SC-216.

○ Final Draft, Appendices to Document, DO-262A—Minimum Operational Performance Standards for Avionics Supporting Next Generation Satellite Systems (NGSS), RTCA Paper No. 111-14/PMC-1210, prepared by SC-222.

• INTEGRATION and COORDINATION COMMITTEE (ICC)

○ Activity Report—ATC Wind Study

• ACTION ITEM REVIEW

○ PMC Ad Hoc—Standards Overlap and Alignment—Discussion—Status

○ PMC Ad Hoc—Part 23 ARC Report—Areas/Recommendations for RTCA Support—Discussion—Status

○ RTCA Policy on Propriety Information—Discussion

• DISCUSSION

○ Selective Calling Equipment—Discussion—Possible New Special Committee to Update RTCA DO-93—Minimum Performance Standards—Airborne Selective Calling Equipment

○ SC-213—Enhanced Flight Vision Systems & Synthetic Vision Systems—Discussion—Revised Terms of Reference

○ SC-224—Airport Security Access Control Systems—Discussion—Revised Terms of Reference

○ SC-229—Emergency Locator Transmitters (ELTS)—Discussion—Revised Terms of Reference

○ NAC—Status Update

○ FAA Actions Taken on Previously Published Documents—Report

○ Special Committees—Chairmen's Reports and Active Inter-Special Committee Requirements Agreements (ISRA)—Review

○ European/EUROCAE Coordination—Status Update

○ Discuss/Review EUROCAE new Work Group—99, Portable Electronic Devices

Discuss/Review EUROCAE new Work Group—100, Remote and Virtual Towers

Discuss/Review EUROCAE Work Group—82, New Air-Ground Data Link Technologies

• OTHER BUSINESS

• SCHEDULE for COMMITTEE DELIVERABLES and NEXT MEETING DATE

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 23, 2014.
Mohannad Dawoud,
Management Analyst, NextGen, Business Operations Group, Federal Aviation Administration.

[FR Doc. 2014-12574 Filed 5-29-14; 8:45 am]

BILLING CODE 4910-13-P